DEPARTMENT OF COMMERCE

International Trade Administration

[A-583-008]

Certain Circular Welded Carbon Steel Pipes and Tubes From Taiwan: Final Results of Antidumping Duty Administrative Review, 2018-2019

AGENCY: Enforcement and Compliance, International Trade Administration, Department of Commerce.

SUMMARY: The Department of Commerce (Commerce) determines that Shin Yang Steel Co., Ltd. (Shin Yang), a producer/exporter of merchandise subject to this administrative review, made sales of subject merchandise at less than normal value during the period of review (POR) May 1, 2018 through April 30, 2019.

DATES: Applicable January 21, 2021.

FOR FURTHER INFORMATION CONTACT: Nicolas Mayora, AD/CVD Operations, Office V, Enforcement and Compliance, International Trade Administration, U.S. Department of Commerce, 1401 Constitution Avenue NW, Washington DC 20230; telephone: (202) 482-3053.

SUPPLEMENTARY INFORMATION:

Background

Commerce is conducting an administrative review of the antidumping duty (AD) order on certain circular welded carbon steel pipes and tubes from Taiwan, in accordance with section 751(a) of the Tariff Act of 1930, as amended (the Act).¹ On July 24, 2020, Commerce published in the Federal Register the Preliminary Results of this administrative review.² We invited interested parties to comment on the Preliminary Results. A complete summary of events that occurred since Commerce published the Preliminary Results can be found in the Issues and Decision Memorandum.³

¹ See Certain Circular Welded Carbon Steel Pipes and Tubes from Taiwan: Antidumping Duty Order, 49 FR 19369 (May 7, 1984) (Order).

² See Certain Circular Welded Carbon Steel Pipes and Tubes from Taiwan: Preliminary Results of Administrative Review of the Antidumping Duty Order; 2018-2019, 85 FR 44852 (July 24, 2020) (Preliminary Results).

³ See Memorandum, “Issues and Decision Memorandum for Final Results of the Antidumping Duty Administrative Review of Certain Circular Welded Carbon Steel Pipes and Tubes from Taiwan; 2018-2019,” dated concurrently with, and hereby adopted by, this notice (Issues and Decision Memorandum).

Scope of the Order

The merchandise subject to this order is certain circular welded carbon steel pipes and tubes from Taiwan. The products are currently classifiable under the Harmonized Tariff Schedule of the United States (HTSUS) subheadings: 7306.30.5025, 7306.30.5032, 7306.30.5040, and 7306.30.5055. Although the HTSUS subheadings are provided for convenience and customs purposes, the written product description of the scope of the order remains dispositive. For a full description of the scope, see the Issues and Decision Memorandum.⁴

⁴ For a full description of the scope, see the Issues and Decision Memorandum.

Analysis of Comments Received

All issues raised in the case and rebuttal briefs are addressed in the Issues and Decision Memorandum. A list of the issues addressed in the Issues and Decision Memorandum is attached to this notice as an Appendix. The Issues and Decision memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/. The signed and electronic versions of the Issues and Decision Memorandum are identical in content.

Changes Since the Preliminary Results

Based on our analysis of comments received from parties, and for the reasons explained in the Issues and Decision Memorandum, Commerce made certain changes to the Preliminary Results. Specifically, we revised our treatment of Shin Yang's purchases of hot-rolled coil from its affiliate.⁵ In addition, we used the updated U.S. sales database provided by Shin Yang on March 3, 2020.⁶ However, these revisions did not result in a change to the weighted-average dumping margin calculated for Shin Yang in these final results of review.

⁵ See Memorandum, “Cost of Production and Constructed Value Calculation Adjustments for the Final Results—Shin Yang Steel Co., Ltd.,” dated concurrently with, and hereby adopted by, this notice.

⁶ See Shin Yang's March 3, 2020 Section B-C Supplemental Questionnaire Response at Exhibit 9.

Final Results of the Review

Commerce determines that the following weighted-average dumping margin exists for Shin Yang for the POR from May 1, 2018 through April 30, 2019:

Producer/exporter | Dumping margin (percent)
Shin Yang Steel Co., Ltd | 1.71

Disclosure

We intend to disclose the calculations performed for these final results to interested parties in this proceeding within five days of the date of publication of this notice in the Federal Register, in accordance with 19 CFR 351.224(b).

Assessment

Pursuant to section 751(a)(2)(C) of the Act and 19 CFR 351.212(b), Commerce has determined, and U.S. Customs and Border Protection (CBP) shall assess, AD duties on all appropriate entries of subject merchandise in accordance with the final results of this review.

For Shin Yang, because its weighted-average dumping margin is not zero or de minimis (i.e., less than 0.5 percent), Commerce has calculated importer-specific (or customer-specific) antidumping duty assessment rates for merchandise subject to this review.⁷ We calculated importer-specific antidumping duty assessment rates by aggregating the total amount of dumping calculated for the examined sales of each importer and dividing each of these amounts by the total sales quantity associated with those sales.

⁷ See Antidumping Proceedings: Calculation of the Weighted Average Dumping Margin and Assessment Rate in Certain Antidumping Proceedings: Final Modification, 77 FR 8101 (February 14, 2012).

In accordance with Commerce's “automatic assessment” practice, for entries of subject merchandise during the POR produced by Shin Yang for which the company did not know that the merchandise was destined for the United States, we will instruct CBP to liquidate those entries at the all-others rate if there is no rate for the intermediate company involved in the transaction. Commerce intends to issue assessment instructions to CBP 15 days after the date of publication of the final results of this review in the Federal Register.

Cash Deposit Requirements

The following cash deposit requirements will be effective upon publication of the notice of the final results of this administrative review for all shipments of subject merchandise entered, or withdrawn from warehouse, for consumption on or after the publication date of the final results, as provided by section 751(a)(2)(C) of the Act: (1) The cash deposit rate for Shin Yang will be equal to the rate established in the final results of this administrative review; (2) for merchandise exported by producers and/or exporters not covered in this review, but covered in a prior segment of this proceeding, the cash deposit rate will continue to be the company-specific rate published for the most recently-completed segment in which the company was reviewed; (3) if the exporter is not a firm covered in this review, a prior review, or the original less-than-fair-value (LTFV) investigation, but the producer is, then the cash deposit rate will be the rate established for the most recently-completed segment of this proceeding for the producer of the subject merchandise; and (4) the cash deposit rate for all other producers or exporters will continue to be 9.70 percent, the all-others rate established in the LTFV investigation.⁸ These cash deposit requirements, when imposed, shall remain in effect until further notice.

⁸ See Certain Circular Welded Carbon Steel Pipes and Tubes from Taiwan: Antidumping Duty Order, 49 FR 19369 (May 7, 1984).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as the only reminder to parties subject to administrative protective order (APO) of their responsibility concerning the return or destruction of proprietary information disclosed under APO in accordance with 19 CFR 351.305(a)(3), which continues to govern business proprietary information in this segment of the proceeding. Timely written notification of the return or destruction of APO materials or conversion to judicial protective order is hereby requested. Failure to comply with the regulations and the terms of an APO is a violation subject to sanction.

Notification to Interested Parties

We are issuing and publishing these final results in accordance with sections 751(a)(1) and 777(i) of the Act and 19 CFR 351.213(h).

Dated: January 12, 2021.
Jeffrey I. Kessler,
Assistant Secretary for Enforcement and Compliance.

Appendix

List of Topics Discussed in the Issues and Decision Memorandum

I. Summary

II. Background

III. Scope of the Order

IV. Changes Since the Preliminary Results

V. Discussion of the Issues

Comment 1. Whether to Adjust Shin Yang's Reported Costs for Affiliated Purchases in Accordance with the Major Input Rule

Comment 2. Whether to Adjust Shin Yang's Reported General and Administrative Expense Ratio

Comment 3. Whether to Deduct Section 232 Duties from Shin Yang's U.S. Sales Price

VI. Recommendation

[FR Doc. 2021-01219 Filed 1-19-21; 8:45 am]

BILLING CODE 3510-DS-P